FEDERAL MARITIME COMMISSION

46 CFR Part 540

[Docket No. 02-15]

Passenger Vessel Financial Responsibility

AGENCY: Federal Maritime Commission.

ACTION: Notice of Public Hearing Date.

SUMMARY: The Commission has determined to set June 11, 2003, as the date for the public hearing in this proceeding.

DATES: Requests to participate in Public Hearing due May 28, 2003.

ADDRESSES: Address all submissions to: Bryant L. VanBrakle, Secretary, Federal Maritime Commission, 800 North Capitol Street, NW., Room 1046, Washington, DC 20573-0001, (202) 523-5725, E-mail: secretary@fmc.gov.

FOR FURTHER INFORMATION CONTACT: Bryant L. VanBrakle, Secretary, Federal Maritime Commission, 800 North Capitol Street, NW., Room 1046, Washington, DC 20573-0001, (202) 523-5725, E-mail: secretary@fmc.gov.

SUPPLEMENTARY INFORMATION: On April 3, 2003, the Commission announced that it had determined to hold a public hearing at which interested parties could make presentations and field questions from the Commissioners concerning the issues raised in this proceeding. The Commission has now determined to convene this public hearing on June 11, 2003. The hearing will be held in the Commission's Main Hearing Room, Room 100, 800 North Capitol Street, NW., Washington, DC, at a time which will be announced in a subsequent notice. Parties wishing to participate in this hearing must notify the Office of the Secretary by close-of-business May 28, 2003, of the name, street address, e-mail address, telephone number, and the name of your company or employer, if any. Parties wishing to participate should also provide a short, brief statement describing their position on the proposed rule.

Submissions should be addressed to the Office of the Secretary: by e-mail to secretary@fmc.gov; by facsimile to 202-523-0014 or by U.S. mail or courier to Federal Maritime Commission, 800 North Capitol Street, NW., Washington, DC 20573. (To avoid delay, electronic or facsimile submissions are encouraged.) The Commission will announce the time of the hearing and the order of presentation and time allotment during the week of June 2, 2003.

By the Commission.
Bryant L. VanBrakle,
Secretary.

[FR Doc. 03-11089 Filed 5-5-03; 8:45 am]

BILLING CODE 6730-01-P